DEPARTMENT OF STATE

[Public Notice 7714]

Department of State Advisory Committee on Private International Law: Notice of Renewal of Charter

The Charter of the Department of State's Advisory Committee on Private International Law has been renewed, effective for a two-year period. Pursuant to the Federal Advisory Committee Act, notification of the renewal was provided to the Senate Foreign Relations Committee, the House Foreign Affairs Committee, and the Library of Congress on December 16, 2011. The Advisory Committee assists the State Department to monitor domestic and international developments in private international law; provides a means for state, local and private sector viewpoints to be made available to the Department; and provides information to assist in the development of positions for efforts to harmonize or negotiate uniform rules of private law at the international level through model national laws, legal guidelines, treaties, and other means.

The Advisory Committee focuses on work undertaken or proposed in various international bodies, including but not limited to the Hague Conference on Private International Law; the United Nations Commission on International Trade Law (UNCITRAL), the International Institute for the Unification of Private Law (UNIDROIT), and the Organization of American States (OAS).

Topics considered by the Advisory Committee have included, for example: jurisdiction and enforcement of foreign judgments; party choice of forum; arbitration rules; enforcement of foreign arbitral awards; the protection of minors; inter-country adoption; child abduction; cross-border insolvency; electronic commerce; secured finance; carriage of goods by sea and by other modes of transportation; cross-border securities transactions; online dispute resolution; international leasing and franchising; and other topics of current interest in private law as they arise.

Advisory Committee meetings are open to the public, and participation by the public is encouraged. Interested persons, organizations, academic centers and others can participate in all aspects of the Committee's work. Notices of meetings are published in the Federal Register at least 15 calendar days prior to the meeting date, unless circumstances require that the meeting be held with a shorter notice period. Interested parties can obtain additional information from the Office of the Assistant Legal Adviser for Private International Law (L/PIL), Department of State, at (202) 776-8420, fax 776-8482, or by email to Tricia Smeltzer at SmeltzerTK@State.gov.

Dated: December 23, 2011.
Harold S. Burman,
Executive Director, Department of State Advisory, Committee on Private International Law.

[FR Doc. 2011-33830 Filed 1-4-12; 8:45 am]

BILLING CODE 4710-08-P